SECURITIES AND EXCHANGE COMMISSION

[Release No. 34-71282; File No. SR-FINRA-2013-046]

Self-Regulatory Organizations; Financial Industry Regulatory Authority, Inc.; Notice of Designation of a Longer Period for Commission Action on Proposed Rule Change Relating to TRACE Reporting and Dissemination of Transactions in Additional Asset-Backed Securities

January 10, 2014.

On November 13, 2013, the Financial Industry Regulatory Authority, Inc. (“FINRA”) filed with the Securities and Exchange Commission (“Commission”), pursuant to Section 19(b)(1) of the Securities Exchange Act of 1934 (“Act”) ¹ and Rule 19b-4 thereunder,² a proposed rule change relating to TRACE reporting and dissemination of transactions in additional asset-backed securities. The proposed rule change was published for comment in the Federal Register on November 26, 2013.³ The Commission received one comment on the proposal.⁴

¹ 15 U.S.C. 78s(b)(1).

² 17 CFR 240.19b-4.

³ See Securities Exchange Act Release No. 70906 (November 20, 2013), 78 FR 70602 (“Notice”).

⁴ See letter from Chris Killian, Managing Director, Securitization, SIFMA to Elizabeth M. Murphy, Secretary, Commission, dated December 17, 2013.

Section 19(b)(2) of the Act ⁵ provides that, within 45 days of the publication of notice of the filing of a proposed rule change, or within such longer period up to 90 days as the Commission may designate if it finds such longer period to be appropriate and publishes its reasons for so finding or as to which the self-regulatory organization consents, the Commission shall either approve the proposed rule change, disapprove the proposed rule change, or institute proceedings to determine whether the proposed rule change should be disapproved. The 45th day for this filing is January 10, 2014. The Commission is extending this 45-day time period.

⁵ 15 U.S.C. 78s(b)(2).

The Commission finds that it is appropriate to designate a longer period within which to take action on the proposed rule change so that it has sufficient time to consider the proposed rule change and the comment received. The proposed rule change would, among other things, provide for post-trade transparency of transactions in certain asset-backed securities.

Accordingly, the Commission, pursuant to Section 19(b)(2) of the Act,⁶ designates February 24, 2014, as the date by which the Commission should either approve or disapprove or institute proceedings to determine whether to disapprove the proposed rule change.

⁶ 15 U.S.C. 78s(b)(2).

For the Commission, by the Division of Trading and Markets, pursuant to delegated authority.⁷
⁷ 17 CFR 200.30-3(a)(31).
Kevin M. O'Neill,
Deputy Secretary.

[FR Doc. 2014-00687 Filed 1-15-14; 8:45 am]

BILLING CODE 8011-01-P